DEPARTMENT OF HEALTH AND HUMAN SERVICES

Centers for Disease Control and Prevention

Collection of Certain Data Regarding Passengers and Crew Arriving From Foreign Countries by Airlines; Rescission of Agency Order

AGENCY: Centers for Disease Control and Prevention (CDC), Department of Health and Human Services (HHS).

ACTION: Notice.

SUMMARY: The Centers for Disease Control and Prevention (CDC), located within the Department of Health and Human Services (HHS), announces the rescission of an Agency Order that was published in the Federal Register on February 24, 2020.

DATES: The Agency Order titled Collection of Certain Data Regarding Passengers and Crew Arriving from Foreign Countries by Airlines issued on February 18, 2020 is rescinded effective September 29, 2020.

FOR FURTHER INFORMATION CONTACT: Jennifer Buigut, Division of Global Migration and Quarantine, Centers for Disease Control and Prevention, 1600 Clifton Road NE, MS H16-4, Atlanta, GA 30329. Email: dgmqpolicyoffice@cdc.gov.

SUPPLEMENTARY INFORMATION: On February 24, 2020, the Centers for Disease Control and Prevention (CDC) published a notice titled “Collection of Certain Data Regarding Passengers and Crew Arriving from Foreign Countries by Airlines” (85 FR 10439) announcing the issuance of an Agency Order on February 18, 2020 to airlines requiring them to collect and provide contact information to CDC about any passenger who had departed from, or was otherwise present within, the People's Republic of China (excluding the special administrative regions of Hong Kong and Macau) within 14 days of the person's entry or attempted entry into the United States via that airline's carriage.

CDC has determined that this information is no longer required to be collected and provided to the Agency by the subject airlines in the manner stipulated in the Order. Accordingly, that Order is hereby rescinded as of September 29, 2020.

Dated: September 24, 2020.
Robert R. Redfield,
Director, Centers for Disease Control and Prevention.

[FR Doc. 2020-21572 Filed 9-25-20; 10:00 am]

BILLING CODE 4163-18-P